DEPARTMENT OF THE INTERIOR

National Park Service

[NPS-WASO-NAGPRA-NPS0027117; PPWOCRADN0-PCU00RP14.R50000]

Notice of Intent To Repatriate Cultural Items: San Diego Museum of Man, San Diego, CA

AGENCY: National Park Service, Interior.

ACTION: Notice.

SUMMARY: The San Diego Museum of Man, in consultation with the appropriate Indian Tribes or Native Hawaiian organizations, has determined that the cultural items listed in this notice meet the definition of unassociated funerary objects and sacred objects. Lineal descendants or representatives of any Indian Tribe or Native Hawaiian organization not identified in this notice that wish to claim these cultural items should submit a written request to the San Diego Museum of Man. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the San Diego Museum of Man at the address in this notice by March 6, 2019.

ADDRESSES: Ben Garcia, San Diego Museum of Man, 1350 El Prado, Balboa Park, San Diego, CA 32101, telephone (619) 239 -2001 ext.17, email bgarcia@muesumofman.org.

SUPPLEMENTARY INFORMATION: Notice is here given in accordance with the Native American Graves Protection and Repatriation Act (NAGPRA), 25 U.S.C. 3005, of the intent to repatriate cultural items under the control of the San Diego Museum of Man that meet the definition of unassociated funerary objects and sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, sometime between the years of the 1920's and 1950's, 1,506 cultural items were removed from site CA-SDI-5017, also referred to as W-150, in the area of Rose Canyon in Pacific Beach, San Diego County, CA. Malcolm Rogers excavated these items on behalf of the San Diego Museum of Man for the purpose of archeological reconnaissance. Artifacts were also collected by a property owner Mr. Carroll D. Scott and were later donated to the San Diego Museum of Man on March 15, 1956. Human remains were believed to be associated with this site. Per consultation with Kumeyaay Nation representatives, human remains were subsequently discovered on a date after the 1950's. The 1,504 unassociated funerary items are: 46 modified faunal bone, 78 unmodified faunal bone, nine ceramic—other, one mixed decorated ceramic sherd, one rim decorated ceramic sherd, 410 undecorated body ceramic sherds, 14 undecorated rim sherds, 34 stone bifaces, eight choppers, three chipped stone cores, six chipped stone core tools, two chipped stone other, 348 projectile points, 26 chipped stone scrapers, 138 unworked flakes, four utilized flakes, 21 manos, one metate, two mortars, 71 groundstone—other, one pestle, 29 shaft straighteners, two historic ceramic pieces, 17 ecofacts, 128 modified shell, 79 unmodified shell (including 10 lots), four soil midden samples, 17 battered stone, and four stone—other.

At an unknown date, sometime between the years of the 1920's and 1950's, three sacred objects were removed from site CA-SDI-5017, also referred to as W-150, in the area of Rose Canyon in Pacific Beach, San Diego County, CA. Malcolm Rogers excavated these sacred objects on behalf of the San Diego Museum of Man for the purpose of archeological reconnaissance. Per consultation with the Kumeyaay Nation representatives, it was determined that these sacred objects are specifically used for traditional Kumeyaay religious ceremonies. Based upon consultation, these items meet the definition and criteria of sacred objects. The three sacred objects are two groundstone pestles and one ecofact.

At an unknown date, sometime between the years of the 1920's and 1950's, 63 cultural items were removed from site CA-SDI-11,767, also referred to as W-175, in the area of Mission Valley, San Diego County CA. Malcolm Rogers excavated these items on behalf of the San Diego Museum of Man for the purpose of archeological reconnaissance. Human remains were believed to be associated with this site. An updated report dated 10/5/1995 indicated an excavation and reburial of human remains beneath a rock cairn. The 63 unassociated funerary items are: Five chipped stone choppers, 17 chipped stone scrappers, two groundstone mono, six battered stones, five ecofacts, three chipped stone cores, one groundsone-other, seven chipped stone-unworked flakes, one chipped stone biface, five undecorated body ceramic sherds, 10 shell-unmodified, and one shell-modified.

Sites CA-SDI-5017 and CA-SDI-11,767 are all located within territory traditionally occupied by the Kumeyaay Nation as represented by The Tribes. Based on cultural resources collection research, geographic location, ethnographic information, oral history evidence and consultation with the Tribes these items have been culturally affiliated as Kumeyaay.

Determinations Made by the San Diego Museum of Man

Officials of the San Diego Museum of Man have determined that:

• Pursuant to 25 U.S.C. 3001(3)(B), 1,567 cultural items described above are reasonably believed to have been placed with or near individual human remains at the time of death or later as part of the death rite or ceremony and are believed, by a preponderance of the evidence, to have been removed from a specific burial site of a Native American individual.

• Pursuant to 25 U.S.C. 3001(3)(C), three cultural items described above are specific ceremonial objects needed by traditional Native American religious leaders for the practice of traditional Native American religions by their present-day adherents.

• Pursuant to 25 U.S.C. 3001(2), there is a relationship of shared group identity that can be reasonably traced between the unassociated funerary objects, sacred objects and The Kumeyaay Nation, as represented by the Campo Band of Diegueno Mission Indians of the Campo Indian Reservation, California; Capitan Grande Band of Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California (previously listed as the Santa Ysabel Band of Diegueno Mission Indians of the Santa Ysabel Reservation); Inaja Band of Diegueno Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation, hereafter referred to as “The Tribes.”

Additional Requestors and Disposition

Lineal descendants or representatives of any Indian Tribe or Native Hawaiian organization not identified in this notice that wish to claim these cultural items should submit a written request with information in support of the claim to Ben Garcia, San Diego Museum of Man, 1350 El Prado, Balboa Park, San Diego, CA 32101, telephone (619) 239 -2001 ext.17, email bgarcia@muesumofman.org, by March 6, 2019. After that date, if no additional claimants have come forward, transfer of control of the unassociated funerary objects and sacred objects to The Kumeyaay Nation, as represented by The Tribes, may proceed.

The San Diego Museum of Man is responsible for notifying The Tribes that this notice has been published.

Dated: December 4, 2018.
Melanie O'Brien,
Manager, National NAGPRA Program.

[FR Doc. 2019-00835 Filed 2-1-19; 8:45 am]

BILLING CODE 4312-52-P